DEPARTMENT OF TRANSPORTATION

Federal Aviation Administration

14 CFR Part 39

[Docket No. FAA-2024-1004; Project Identifier AD-2023-01058-R; Amendment 39-22866; AD 2024-20-07]

RIN 2120-AA64

Airworthiness Directives; Various Helicopters

AGENCY: Federal Aviation Administration (FAA), DOT.

ACTION: Final rule.

SUMMARY: The FAA is adopting a new airworthiness directive (AD) for various helicopters modified by certain supplemental type certificates (STCs) that approve the installation of an emergency float kit or an emergency float with a liferaft kit. This AD was prompted by the results of an accident investigation and subsequent reports of difficulty pulling the emergency float kit activation handle installed on the pilot cyclic. This AD requires repetitively inspecting the pull force on the float activation handle and for certain model helicopters, this AD also requires and replacing certain part-numbered float inflation reservoirs (reservoirs) and pull cable assemblies (cables) with other part-numbered reservoirs and cables. Finally, this AD prohibits installing certain part-numbered reservoirs and cables on specific helicopters. The FAA is issuing this AD to address the unsafe condition on these products.

DATES: This AD is effective December 5, 2024.

The Director of the Federal Register approved the incorporation by reference of certain publications listed in this AD as of December 5, 2024.

ADDRESSES:

AD Docket: You may examine the AD docket at regulations.gov under Docket No. FAA-2024-1004; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Dart Aerospace material identified in this AD, contact Dart Aerospace, LTD., 1270 Aberdeen Street, Hawkesbury, ON, K6A 1K7, Canada; phone: 1-613-632-5200; fax: 1-613-632-5246; website: dartaero.com.

• You may view this material at the FAA, Office of the Regional Counsel, Southwest Region, 10101 Hillwood Parkway, Room 6N-321, Fort Worth, TX 76177. For information on the availability of this material at the FAA, call: (817) 222-5110.

Other Related Service Information: For additional Dart Aerospace material identified in this final rule, use the Dart Aerospace, LTD., contact information under Material Incorporated by Reference above.

FOR FURTHER INFORMATION CONTACT: Johann Magana, Aviation Safety Engineer, FAA, 3960 Paramount Boulevard, Lakewood, CA 90712; phone: (562) 627-5322; email: johann.magana@faa.gov.

SUPPLEMENTARY INFORMATION:

Background

The FAA received reports of an accident involving an Airbus Helicopters Model AS350B2 helicopter impacting a body of water during an autorotation. Both the left and right-hand emergency floats did not inflate symmetrically, and the helicopter subsequently capsized.

Accordingly, the FAA issued AD 2020-02-23, Amendment 39-21027 (85 FR 8150, February 13, 2020) (AD 2020-02-23), for Airbus Helicopters Model AS350B, AS350BA, AS350B1, AS350B2, AS350B3, AS350C, AS350D, and AS350D1 helicopters modified by STC SR00470LA, and Airbus Helicopters Model AS355E, AS355F, AS355F1, AS355F2, AS355N, and AS355NP helicopters modified by STC SR00645LA. AD 2020-02-23 requires repetitive inspections of the installation of the cables on the emergency float kits. After AD 2020-02-23 was issued, the National Transportation Safety Board (NTSB) reported that similar deficiencies may remain unresolved in other similar FAA-approved emergency flotation systems.¹

¹ NTSB Investigation; Inadvertent Activation of the Fuel Shutoff Lever, Subsequent Loss of Engine Power, and Ditching on the East River, Liberty Helicopters Inc. This information may be viewed under 2.4.3 Certification Review Process, of Docket Item #79 NTSB—Adopted Board Report, which is available at https://data.ntsb.gov/Docket/?NTSBNumber=ERA18MA099.

Accordingly, the FAA issued a notice of proposed rulemaking (NPRM) to amend 14 CFR part 39 by adding an AD that would apply to various helicopters modified by certain STCs that approve the installation of an emergency float kit or an emergency float with a liferaft kit. The NPRM published in the Federal Register on April 25, 2024 (89 FR 31659). In the NPRM, the FAA proposed to require repetitively inspecting the installation of the cables on certain emergency float systems and, depending on the results, repairing the cable installation or, deactivating and placarding the emergency float system as inoperative. For specific helicopters, the FAA also proposed to require removing from service and replacing certain part-numbered reservoirs and cables with other part-numbered reservoirs and cables. Additionally, the FAA proposed to prohibit installing certain part-numbered reservoirs and cables on certain helicopters. The FAA is issuing this AD to address the unsafe condition on these products.

Discussion of Final Airworthiness Directive

Comments

The FAA received a comment on the NPRM from the NTSB. The NTSB supported the NPRM without change.

Conclusion

The FAA reviewed the relevant data, considered the comment received, and determined that air safety requires adopting the AD as proposed. Accordingly, the FAA is issuing this AD to address the unsafe condition on these products. Except for minor editorial changes, this AD is adopted as proposed in the NPRM.

Material Incorporated by Reference Under 1 CFR Part 51

The FAA reviewed DART Aerospace Operation Instructional Manual for General Pull Cable Rigging and Testing Procedure, Revision B, dated May 12, 2023. This material specifies procedures for testing the pull cable rigging on the DART Aerospace emergency float and liferaft systems using certain part-numbered pull cable test tools.

The FAA also reviewed DART Aerospace Service Bulletin (SB) No. SB2020-09, Revision A, dated March 16, 2021, DART Aerospace SB No. SB2021-01, Revision A, dated December 28, 2021, DART Aerospace SB No. SB2021-02, dated April 30, 2021, DART Aerospace SB No. SB2021-03, dated June 30, 2021, and DART Aerospace SB No. SB2022-01, dated March 14, 2022. This material specifies procedures for inspecting the installation of the cable emergency float kits (e.g., inspecting for activation pull forces on the float activation handle), readjusting the cable rigging if improperly installed, and contacting DART if readjusting the rigging is not successful. This material also specifies optional procedures for deactivating the emergency float system as inoperative and reporting compliance to DART.

This material is reasonably available because the interested parties have access to it through their normal course of business or by the means identified in the ADDRESSES section.

Other Related Material

The FAA reviewed DART Aerospace SB No. SB 2022-03, dated May 12, 2023, for Model R44 and R44 II helicopters, which specifies procedures for removing and replacing certain part-numbered reservoirs and cables with new part-numbered reservoirs and cables. This material also specifies procedures for revising the rotorcraft flight manual and recording compliance with the material in the aircraft logbook.

Differences Between This AD and the Related Material

The related material specifies a one-time pull cable test, whereas this AD requires repetitively inspecting the pull force on the float activation handle.

Where the related material specifies contacting DART, this AD requires actions in accordance with FAA-approved procedures.

Appendix A of the related material specifies to ty-wrap the pin into place on the pilot collective and to contact DART customer service for a resolution, whereas this AD requires accomplishing corrective actions in accordance with FAA-approved procedures.

Costs of Compliance

The FAA estimates that this AD affects 1,150 emergency float kits or emergency float with liferaft kits installed on helicopters of U.S. registry. Labor costs are estimated at $85 per work-hour. Based on these numbers, the FAA estimates the following costs to comply with this AD.

Inspecting the pull force on the float activation handle will take 1 work-hour with one test kit costing $2,000 for an estimated cost of $2,085 per helicopter and $2,397,750 for the U.S. fleet, per inspection cycle.

Replacing a reservoir and cable (Model R44 and R44 II helicopters) will take 2 work-hours and parts will cost $5,800 for an estimated cost of $5,970 per helicopter.

The FAA has no way of determining what repairs may be required following the inspection required by this AD, the number of helicopters that may need repairs, or the costs to perform repairs. However, if required as a repair, replacing and adjusting an affected cable will take 8 work-hours and parts will cost $255 for an estimated total cost of $935 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-20-07 Various Helicopters: Amendment 39-22866; Docket No. FAA-2024-1004; Project Identifier AD-2023-01058-R.

(a) Effective Date

This airworthiness directive (AD) is effective December 5, 2024.

(b) Affected ADs

None.

(c) Applicability

This AD applies to the helicopters identified in paragraphs (c)(1) through (8) of this AD, certificated in any category.

(1) Airbus Helicopters Model AS350B, AS350BA, AS350B1, AS350B2, AS350B3, AS350C, AS350D, AS350D1, AS355E, AS355F, AS355F1, AS355F2, and AS355N helicopters modified by Supplemental Type Certificate (STC) SR00831LA; Model EC120B helicopters modified by STC SR00780LA; and Model EC130B4 helicopters modified by STC SR01687LA.

Note 1 to paragraph (c)(1): Helicopters with an AS350B3e designation are Model AS350B3 helicopters.

(2) Airbus Helicopters Deutschland GmbH (AHD) Model BO-105A, BO-105C, BO-105S, and BO-105LS A-3 helicopters modified by STC SR00856LA; Model EC135P1, EC135P2, EC135P2+, EC135P3, EC135T1, EC135T2, EC135T2+, and EC135T3 helicopters modified by STC SR01855LA; and Model MBB-BK 117 C-2 and MBB-BK 117 D-2 helicopters modified by STC SR02244LA.

Note 2 to paragraph (c)(2): Helicopters with an EC135P3H designation are Model EC135P3 helicopters; helicopters with an EC135T3H designation are Model EC135T3 helicopters, and helicopters with an MBB-BK117 C-2e designation are Model MBB-BK117 C-2 helicopters.

(3) Bell Textron Inc., Model 210, 212, 412, 412CF, and 412EP helicopters modified by STC SR01779LA; and Model 412, 412CF, and 412EP helicopters modified by STC SR01459LA.

(4) Bell Textron Canada Limited Model 206A, 206B, 206L, 206L-1, 206L-3, 206L-4, and 407 helicopters modified by STC SR01535LA.

Note 3 to paragraph (c)(4): Helicopters with a 206B3 designation are Model 206B helicopters; helicopters with a 206L-1+ designation are Model 206L-1 helicopters; and helicopters with a 206L-3+ designation are Model 206L-3 helicopters.

(5) Leonardo S.p.a. Model AB412 and AB412 EP helicopters modified by STC SR01779LA.

(6) MD Helicopters, LLC, Model 369D, 369E, 369F, 369FF, 369HE, 369HM, 369HS, and 500N helicopters modified by STC SR00932LA.

(7) Robinson Helicopter Company Model R44 and R44 II helicopters modified by STC SR02049LA; and Model R66 helicopters modified by STC SR02484LA.

(8) Sikorsky Aircraft Corporation Model S-76A, S-76B, and S-76C helicopters modified by STC SR01902LA.

(d) Subject

Joint Aircraft System Component (JASC) Code: 2560, Emergency Equipment; and 3212, Emergency Flotation Section.

(e) Unsafe Condition

This AD was prompted by the results of an accident investigation and subsequent reports of difficulty pulling the emergency float kit float activation handle installed on the pilot cyclic. The FAA is issuing this AD to detect and address improperly installed cables, which can lead to difficulty deploying the float system from the float activation handle. The unsafe condition, if not addressed, could result in loss of the left-hand or right-hand float, causing the helicopter to roll to one side, or loss of both floats causing the helicopter to capsize underwater.

(f) Compliance

Comply with this AD within the compliance times specified, unless already done.

(g) Required Actions

(1) Within 100 hours time-in-service (TIS) or 30 days after the effective date of this AD, whichever occurs first, and thereafter at intervals not to exceed six months, accomplish the actions required by paragraphs (g)(1)(i) through (vi) of this AD, as applicable to your model helicopter.

(i) For Airbus Helicopters Model EC130B4 helicopters identified in paragraph (c)(1) of this AD, accomplish the actions required by paragraphs (g)(1)(i)(A) or (B) of this AD, as applicable, and paragraph (g)(1)(i)(C) of this AD, as applicable.

(A) Inspect the pull force on the float activation handle in accordance with section 2.0 (for pull cable test tool part-number (P/N) 606.7803), paragraphs 1 through 14 of DART Aerospace Operation Instructional Manual for General Pull Cable Rigging and Testing Procedure, Revision B, dated May 12, 2023 (DART OIM-11 Rev B), except if the inflation handle makes contact with the cyclic stick in paragraph 6, before further flight, perform cable rigging in accordance with FAA-approved procedures and, once the cable is properly rigged, continue with the actions required by this paragraph, and except the measurement in paragraph 8 must be 0.85 in (2.16 cm) or greater; or

(B) Inspect the pull force on the float activation handle in accordance with section 3.0 (for pull cable test tool P/N 607.1602), paragraphs 3 through 20 of DART OIM-11 Rev B, except in paragraph 3, where it states, “it is advised to mark these locations and verify the hole centers by removing the two set screws from the test tool and sliding the tool onto the shroud and aligning the tool with the marks,” replace that text with “mark these locations and verify the hole centers by removing the two set screws from the test tool and sliding the tool onto the shroud and aligning the tool with the marks,” and except the measurement in paragraph 13 must be 0.75 in (1.91 cm) or greater.

(C) If the pull force is greater than 25 lbf (111.2N) or exceeds the limits in the existing Installation Instructions or Instructions for Continued Airworthiness for your helicopter, as applicable, before further flight, comply with paragraph (g)(2) of this AD, as applicable to your model helicopter.

(ii) For Airbus Helicopters Deutschland GmbH (AHD) Model MBB-BK 117 C-2 and MBB-BK 117 D-2 helicopters identified in paragraph (c)(2) of this AD, accomplish the actions required by paragraphs (g)(1)(ii)(A) and (B) of this AD, as applicable.

(A) Inspect the pull force on the float activation handle in accordance with section 2.0 (for pull cable test tool P/N 606.7803), paragraphs 1 through 14 of DART OIM-11 Rev B, except if the inflation handle makes contact with the cyclic stick in paragraph 6, before further flight, perform cable rigging in accordance with FAA-approved procedures, and except the measurement in paragraph 8 must be 0.85 in (2.16 cm) or greater.

(B) If the pull force is greater than 25 lbf (111.2N), or exceeds the limits in the existing Installation Instructions or Instructions for Continued Airworthiness for your helicopter, as applicable, before further flight, comply with paragraph (g)(2) of this AD, as applicable to your model helicopter.

(iii) For Bell Textron Inc., Model 210, 212, 412, 412CF, and 412EP helicopters identified in paragraph (c)(3) of this AD, accomplish the actions required by paragraphs (g)(1)(iii)(A) or (B) of this AD, as applicable, and paragraph (g)(1)(iii)(C) of this AD, as applicable.

(A) Inspect the pull force on the float activation handle in accordance with section 2.0 (for pull cable test tool P/N 606.7803), paragraphs 1 through 14 of DART OIM-11 Rev B, except if the inflation handle makes contact with the cyclic stick in paragraph 6, before further flight perform cable rigging in accordance with FAA-approved procedures, and except the measurement in paragraph 8 must be 0.85 in (2.16 cm) or greater; or

(B) Inspect the pull force on the float activation handle in accordance with section 3.0 (for pull cable test tool P/N 607.1602), paragraphs 3 through 20 of DART OIM-11 Rev B, except in paragraph 3, where it states, “it is advised to mark these locations and verify the hole centers by removing the two set screws from the test tool and sliding the tool onto the shroud and aligning the tool with the marks.” replace that text with “mark these locations and verify the hole centers by removing the two set screws from the test tool and sliding the tool onto the shroud and aligning the tool with the marks,” and except the measurement in paragraph 13 must be 0.75 in (1.91 cm) or greater.

(C) If the pull force is greater than 25 lbf (111.2N), or exceeds the limits in the existing Installation Instructions or Instructions for Continued Airworthiness for your helicopter, as applicable, before further flight, comply with paragraph (g)(2) of this AD, as applicable to your model helicopter.

(iv) For Bell Textron Canada Limited Model 206A, 206B, 206L, 206L-1, 206L-3, 206L-4, and 407 helicopters identified in paragraph (c)(4) of this AD, accomplish the actions required by paragraphs (g)(1)(iv)(A) and (B) of this AD, as applicable.

(A) Inspect the pull force on the float activation handle in accordance with section 2.0 (for pull cable test tool P/N 606.7803), paragraphs 1 through 14 of DART OIM-11 Rev B, except if the inflation handle makes contact with the cyclic stick in paragraph 6, before further flight perform cable rigging in accordance with FAA-approved procedures, and except the measurement in paragraph 8 must be 0.85 in (2.16 cm) or greater.

(B) If the pull force is greater than 25 lbf (111.2N), or exceeds the limits in the existing Installation Instructions or Instructions for Continued Airworthiness for your helicopter, as applicable, before further flight, comply with paragraph (g)(2) of this AD, as applicable to your model helicopter.

(v) For Robinson Helicopter Company Model R66 helicopters identified in paragraph (c)(7) of this AD, accomplish the actions required by paragraphs (g)(1)(v)(A) and (B) of this AD, as applicable.

(A) Inspect the pull force on the float activation handle in accordance with section 2.0 (for pull cable test tool P/N 607.7803), paragraphs 1 through 14 of DART OIM-11 Rev B, except if the inflation handle makes contact with the cyclic stick in paragraph 6, before further flight perform cable rigging in accordance with FAA-approved procedures, and except the measurement in paragraph 8 must be 0.85 in (2.16 cm) or greater.

(B) If the pull force is greater than 25 lbf (111.2N), or exceeds the limits in the existing Installation Instructions or Instructions for Continued Airworthiness for your helicopter, as applicable, before further flight, comply with paragraph (g)(2) of this AD, as applicable to your model helicopter.

(vi) For the helicopters identified in paragraphs (g)(1)(vi)(A) through (E) of this AD, inspect the pull force on the float activation handle in accordance with FAA-approved procedures. The threshold for this pull force inspection must not exceed 25 lbf (111.2N). If the float activation handle fails the test, (if the pull force is greater than 25 lbf (111.2N)), or exceeds the limits in the existing Installation Instructions or Instructions for Continued Airworthiness for your helicopter, as applicable, before further flight, comply with paragraph (g)(2) of this AD, as applicable to your model helicopter.

(A) Airbus Helicopters Model AS350B, AS350BA, AS350B1, AS350B2, AS350B3, AS350C, AS350D, AS350D1, AS355E, AS355F, AS355F1, AS355F2, AS355N, and EC120B helicopters identified in paragraph (c)(1) of this AD.

(B) Airbus Helicopters Deutschland GmbH (AHD) Model BO-105A, BO-105C, BO-105S, BO-105LS A-3, EC135P1, EC135P2, EC135 P2+, EC135P3, EC135T1, EC135T2, EC135T2+, and EC135T3 helicopters identified in paragraph (c)(2) of this AD.

(C) Leonardo S.p.a. Model AB412 and AB412 EP helicopters identified in paragraph (c)(5) of this AD.

(D) MD Helicopters, LLC, Model 369D, 369E, 369F, 369FF, 369HE, 369HM, 369HS, and 500N helicopters identified in paragraph (c)(6) of this AD.

(E) Sikorsky Aircraft Corporation Model S-76A, S-76B, and S-76C helicopters identified in paragraph (c)(8) of this AD.

(2) For the helicopters identified in paragraphs (g)(1)(i) through (v) of this AD, as a result of the actions required by paragraphs (g)(1)(i) through (v) of this AD, if the pull force is greater than 25 lbf (111.2N), or exceeds the limits in the existing Installation Instructions or Instructions for Continued Airworthiness for your helicopter, as applicable, before further flight, comply with either paragraph (g)(2)(i) or (ii) of this AD.

(i) Repair the cable installation in accordance with FAA-approved procedures.

(ii) Deactivate and placard the emergency float system as inoperative in accordance with Appendix A of DART Aerospace Service Bulletin (SB) No. SB2020-09, Revision A, dated March 16, 2021, DART Aerospace SB No. SB2021-01, Revision A, dated December 28, 2021, DART Aerospace SB No. SB2021-02, dated April 30, 2021, DART Aerospace SB No. SB2021-03, dated June 30, 2021, or DART Aerospace SB No. SB2022-01, dated March 14, 2022, as applicable to your model helicopter, except where Appendix A specifies ty-wrapping the pin into place on the pilot collective, and where Appendix A specifies contacting DART customer service for a resolution, accomplish the deactivation and placarding in accordance with FAA-approved procedures. If the emergency float system is deactivated and placarded as inoperative, you are not required to accomplish the actions required by paragraph (g)(1) of this AD. This AD does not allow operation with an inoperative emergency float system unless the requirements of 14 CFR 91.205, 91.213, 135.183, and 136.11 have been met.

(3) For the helicopters identified in paragraphs (g)(1)(vi)(A) through (E) of this AD, as a result of the actions required by the introductory text of paragraph (g)(1)(vi) of this AD, if the pull force is greater than 25 lbf (111.2N), before further flight, repair the cable installation, or deactivate and placard the emergency float system as inoperative in accordance with FAA-approved procedures.

(4) For Robinson Helicopter Company Model R44 and R44 II helicopters identified in paragraph (c)(7) of this AD, within 36 months or at the next float inflation reservoir (reservoir) overhaul after the effective date of this AD, whichever occurs first, perform the requirements in paragraphs (g)(4)(i) and (ii) of this AD. Thereafter, within intervals not to exceed six months, repeat the actions required by paragraph (g)(4)(ii) of this AD.

(i) Remove cable P/N 644.7501 or P/N 644.7502 from service, as applicable, and replace with cable P/N 644.7503; and remove each reservoir P/N 644.7701 from service and replace with reservoir P/N 644.7702 or P/N 644.7703.

(ii) Inspect the pull force on the float activation handle in accordance with FAA-approved procedures. The threshold for this pull force inspection must not exceed 25 lbf (111.2N). If the pull cable installation fails the test (if the pull force is greater than 25 lbf (111.2N)), before further flight, repair the cable installation, or deactivate and placard the emergency float system as inoperative in accordance with FAA-approved procedures.

(5) As of the effective date of this AD, do not install reservoir P/N 644.7701 and cable P/N 644.7501 or reservoir P/N 644.7701 and cable P/N 644.7502 on any Robinson Helicopter Company Model R44 or R44 II helicopter.

(h) Alternative Methods of Compliance (AMOCs)

(1) The Manager, West Certification Branch, FAA, has the authority to approve AMOCs for this AD, if requested using the procedures found in 14 CFR 39.19. In accordance with 14 CFR 39.19, send your request to your principal inspector or local Flight Standards District Office, as appropriate. If sending information directly to the manager of the West Certification Branch, send it to the attention of the person identified in paragraph (i) of this AD. Information may be emailed to: AMOC@faa.gov.

(2) Before using any approved AMOC, notify your appropriate principal inspector, or lacking a principal inspector, the manager of the local flight standards district office/certificate holding district office.

(i) Related Information

For more information about this AD, contact Johann Magana, Aviation Safety Engineer, FAA, 3960 Paramount Boulevard, Lakewood, CA 90712; phone: (562) 627-5322; email: johann.magana@faa.gov.

(j) Material Incorporated by Reference

(1) The Director of the Federal Register approved the incorporation by reference of the material listed in this paragraph under 5 U.S.C. 552(a) and 1 CFR part 51.

(2) You must use this material as applicable to do the actions required by this AD, unless the AD specifies otherwise.

(i) DART Aerospace Operation Instructional Manual for General Pull Cable Rigging and Testing Procedure, Revision B, dated May 12, 2023.

(ii) DART Aerospace Service Bulletin (SB) No. SB2020-09, Revision A, dated March 16, 2021.

(iii) DART Aerospace SB No. SB2021-01, Revision A, dated December 28, 2021.

(iv) DART Aerospace SB No. SB2021-02, dated April 30, 2021.

(v) DART Aerospace SB No. SB2021-03, dated June 30, 2021.

(vi) DART Aerospace SB No. SB2022-01, dated March 14, 2022.

(3) For material identified in this AD, contact Dart Aerospace, LTD., 1270 Aberdeen Street, Hawkesbury, ON, K6A 1K7, Canada; phone: 1-613-632-5200; fax: 1-613-632-5246; website: dartaero.com.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on October 28, 2024.
Victor Wicklund,
Deputy Director, Compliance & Airworthiness Division, Aircraft Certification Service.

[FR Doc. 2024-25390 Filed 10-30-24; 8:45 am]

BILLING CODE 4910-13-P